ENVIRONMENTAL PROTECTION AGENCY

[FRL-8213-3]

Notice of Availability of Draft Total Maximum Daily Load (TMDL) Report Developed in Accordance With Section 303(d) of the Clean Water Act, for Squaw Creek and Stillwell Creek, in Wisconsin, for Review

AGENCY: Environmental Protection Agency (EPA).

ACTION: Notice and request for comments.

SUMMARY: This notice announces the availability of the TMDL report developed by EPA Region 5 for Stillwell Creek and Squaw Creek in Wisconsin. Both Creeks are located in Monroe County in West Central Wisconsin. Squaw Creek and Stillwell Creek are classified as “water quality-limited” and have been placed on Wisconsin's list of waters in need of restoration. The impaired segments addressed in this TMDL are Stillwell Creek, Miles 0.6-2.8, and Squaw Creek, Miles 0.0-0.2.

Sediment and Temperature are the pollutants listed as causing the impairment of Stillwell Creek, which is designated as a Class II Trout stream by the State of Wisconsin. Sources of Sediment and Temperature in need of reduction in this TMDL are from the holding and release of water for agricultural purposes. A reduction in temperature between 16 and 34 percent (varying with expected temperature in the stream), and a 13 to 43 percent reduction in sediment (reductions are related to expected variations in hydrology) are targeted.

Temperature is the pollutant listed as the cause of the impairment of Squaw Creek, also a Class II trout stream. The source of the impairment in need of reduction in this TMDL is the holding of water in Squaw Lake and its subsequent release from the warmer upper layers near the surface of the lake. A 12-36 percent reduction in temperature (varying with expected temperature in the stream) is targeted.

EPA is providing an opportunity for public input regarding the analyses completed for needed pollutant reductions in the TMDL.

DATES: Comments on this document must be received in writing by September 25, 2006.

ADDRESSES: Written comments on today's notice may be submitted to Jo Lynn Traub, Director, Water Division, Attn: Squaw/Stillwell Creek TMDLs, U.S. Environmental Protection Agency, 77 West Jackson Boulevard (W-15J), Chicago, Illinois 60604. As an alternative, EPA will accept comments electronically. Comments should be sent to the following Internet e-mail address: urban.christine@epa.gov.

FOR FURTHER INFORMATION CONTACT: Christine Urban, Watersheds and Wetlands Branch, at the EPA address noted above or by telephone at (312) 886-3493.

SUPPLEMENTARY INFORMATION: Section 303(d) of the Clean Water Act (CWA) requires that each state identify those waters for which existing technology-based pollution controls are not stringent enough to attain or maintain state water quality standards. For those water quality-limited waters, states are required to establish TMDLs for one or more of its designated uses, for example fishing or swimming, according to a priority ranking.

The TMDLs are designed to identify needed reductions of pollutant loads to the impaired waters, so that the appropriate designated uses are achieved, and State Water Quality Standards are met.

In the case of the Stillwell and Squaw Creek TMDLs, both of the impaired segments are located within the boundaries of the Fort McCoy Military Training Facility. EPA Region 5 developed this TMDL, rather than the State of Wisconsin, at the request of Wisconsin because Squaw and Stillwell Creek are located on a federal military facility.

Dated: August 16, 2006.
Peter Swenson,
Acting Director, Water Division, EPA Region 5.

[FR Doc. E6-14167 Filed 8-24-06; 8:45 am]

BILLING CODE 6560-50-P